INTERNATIONAL TRADE COMMISSION

[Investigation No. 337-TA-785]

Certain Light-Emitting Diodes and Products Containing Same; Commission Determination Not To Review an Initial Determination Terminating the Investigation as to All Remaining Respondents; Termination of the Investigation

AGENCY: U.S. International Trade Commission.

ACTION: Notice.

SUMMARY: Notice is hereby given that the U.S. International Trade Commission has determined not to review an initial determination (“ID”) (Order No. 39) of the presiding administrative law judge (“ALJ”) terminating the above-captioned investigation as to all remaining respondents based on a settlement agreement. The remaining respondents included the following: LG Electronics, Inc. and LG Innotek Co., Ltd., both of Seoul, South Korea; LG Electronics U.S.A., Inc. of Englewood Cliffs, New Jersey; and LG Innotek U.S.A., Inc. of San Diego, California (collectively, “LG”).

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 11, 2011, based on two complaints filed by OSRAM AG (“OSRAM”) of Munich, Germany. 76 FR 40746-47. The complaints allege violations of section 337 of the Tariff Act of 1930, as amended, 19 U.S.C. 1337, in the importation into the United States, the sale for importation, and the sale within the United States after importation of certain light-emitting diodes and products containing same by reason of infringement of certain claims of U.S. Patent Nos. 7,345,317 (“the '317 patent”); 7,126,162 (“the '162 patent”); 6,812,500; 7,078,732; 7,629,621; 6,459,130 (“the '130 patent”); 6,927,469 (“the '469 patent”); 7,199,454 (“the '454 patent”); and 7,427,806 (“the '806 patent”). The complaints further allege the existence of a domestic industry. The Commission's notice of investigation named Samsung Electronics Co., Ltd. of Gyeonggi-do, Korea; Samsung LED Co., Ltd. of Gyeonggi Province, Korea; Samsung Electronics America, Inc. of Ridgefield Park, New Jersey; Samsung LED America, Inc. of Atlanta, Georgia (collectively, “Samsung”); and LG as respondents. No Commission investigative attorney is participating in the investigation.

On October 11, 2011, the Commission determined not to review the ALJ's ID (Order No. 8) granting OSRAM's motion to amend the complaint and notice of investigation to reflect a corporate name change from OSRAM GmbH to OSRAM AG, to correct the addresses of Samsung Electronics Co., Ltd. and Samsung LED Co., Ltd., and to make other typographical changes. On February 23, 2012, the Commission determined not to review the ALJ's ID (Order No. 20) terminating the investigation as to the '317 patent and claim 15 of the '162 patent. On June 27, 2012, the Commission determined not to review the ALJ's ID (Order No. 32) terminating the investigation as to the '130, '469, '454, and '806 patents. On September 24, 2012, the Commission determined not to review the ALJ's ID (Order Nos. 37 and 37A) terminating the investigation as to Samsung based on a settlement agreement.

On November 2, 2012, OSRAM and LG moved to terminate LG from the investigation based on a settlement agreement. No party opposed the motion.

The ALJ issued the subject ID (Order No. 39) on November 16, 2012, granting the joint motion for termination of the investigation as to LG. He found that the motion satisfies Commission rules 210.21(a)(2) and (b)(1). He further found, pursuant to Commission rule 210.50(b)(2), that termination of this investigation as to LG is in the public interest. No party petitioned for review of the ID.

The Commission has determined not to review the ID, and has terminated the investigation.

The authority for the Commission's determination is contained in section 337 of the Tariff Act of 1930, as amended (19 U.S.C. 1337), and in sections 210.21 and 210.42(h) of the Commission's Rules of Practice and Procedure (19 CFR 210.21, 210.42(h)).

By order of the Commission.
Issued: December 13, 2012.
Lisa R. Barton,
Acting Secretary to the Commission.

[FR Doc. 2012-30444 Filed 12-18-12; 8:45 am]

BILLING CODE 7020-02-P